DEPARTMENT OF COMMERCE

National Oceanic and Atmospheric Administration

50 CFR Part 648

[Docket No. 0907241164-91415-02]

RIN 0648-AY09

Magnuson-Stevens Fishery Conservation and Management Act Provisions; Fisheries of the Northeastern United States

AGENCY: National Marine Fisheries Service (NMFS), National Oceanic and Atmospheric Administration (NOAA), Commerce.

ACTION: Final rule.

SUMMARY: NMFS is modifying the Northeast (NE) Region experimental fishing regulations to authorize the NMFS NE Regional Administrator (RA), or the RA's designee, to issue a Letter of Authorization (LOA) to eligible researchers on board federally permitted fishing vessels that plan to temporarily possess fish in a manner not compliant with applicable fishing regulations for the purpose of collecting scientific data on catch.

DATES: This final rule is effective on February 8, 2010.

ADDRESSES: Copies of the Regulatory Impact Review (RIR) are available upon request from Patricia A. Kurkul, Regional Administrator, NMFS, NE Regional Office, 55 Great Republic Drive, Gloucester, MA 01930.

FOR FURTHER INFORMATION CONTACT: Ryan Silva, Cooperative Research Liaison, phone (978) 281-9326, fax (978) 281-9135.

SUPPLEMENTARY INFORMATION: This final rule revises portions of the NE Region experimental fishing regulations to authorize the NMFS NE Regional Administrator (RA), or the RA's designee, to issue a Letter of Authorization (LOA) to eligible researchers on board federally permitted fishing vessels that plan to temporarily possess fish in a manner not compliant with applicable fishing regulations for the purpose of collecting scientific data on catch (temporary possession LOA).

NE Region fishing regulations at 50 CFR part 648 implement management measures for fisheries operating under 15 fishery management plans (FMPs). These regulations include minimum fish sizes, fish possession limits, and various spatial and temporal fish possession restrictions such as quota and area closures. Federally permitted fishing vessels that carry research personnel during commercial fishing trips for the purpose of collecting catch data before discarding restricted fish are currently required to obtain an EFP in order to conduct their sampling work. The requirement to obtain an EFP prior to conducting these types of sampling activities on commercial fishing vessels has raised several issues and concerns within the scientific community, the Regional Fishery Management Councils, and among NMFS Regional Office and Science Center staff. Due to the time necessary to request and obtain an EFP, these temporary possession EFPs can inhibit the ability of fishery researchers to opportunistically accompany commercial fishing vessels for the purpose of data collection. This has resulted in the delay and lost opportunity to conduct important fishery research, which negatively affects cooperative research efforts and increases the cost of data collection. In addition, the administrative burden on NMFS from processing and overseeing these routine EFPs is substantial.

To mitigate these concerns, this final rule authorizes the RA, or the RA's designee, to issue an LOA to eligible researchers on board federally permitted fishing vessels that plan to temporarily possess for the purpose of collecting scientific data on fish that could otherwise not be retained under applicable fishing regulations. The RA will determine whether the applicant and participating vessels meet the eligibility criteria prior to issuing or denying a temporary possession LOA application.

NMFS will maintain discretion over the vessels and researchers that are issued temporary exemption LOAs. To ensure effective oversight, eligible vessels will need to meet the requirements described below, and EFP oversight policies will apply to all vessels issued a temporary possession LOA. Any additional exemptions beyond temporary possession would need to be obtained through the standard EFP process.

Only personnel from the following bodies will be eligible for a temporary possession LOA: Foreign government agency; U.S. Government agency; U.S. state or territorial agency; university (or other educational institution accredited by a recognized national or international accreditation body); international treaty organization; or scientific institution.

To obtain a temporary possession LOA, an eligible applicant will be required to submit a complete application, similar to an EFP application, which contains the following information: The date of the application; the applicant's name, mailing address, and telephone number; a statement of the purposes and goals for which the LOA is needed; the name(s) and affiliation of the fishery research technicians that will be collecting the data; a statement demonstrating the qualifications of the research technician that will be collecting the data; the species (target and incidental) expected to be harvested under the LOA; the disposition of all regulated species harvested under the LOA; the approximate time(s) and place(s) fishing will take place; the type, size, and amount of gear to be used; and the signature of the applicant. In addition, for each vessel to be covered by the LOA, as soon as the information is available and before operations begin, the applicant will be required to supply the vessel operator name, the vessel's Federal fishing permit number, and the vessel registration or documentation number.

Comments and Responses

Comment 1: There was one comment submitted in response to this proposed rulemaking that expressed support for reducing the administrative burden of EFPs on cooperative research projects in general.

Response: NMFS concurs that this rule will reduce the administrative burden of EFPs on cooperative research program.

Classification

Pursuant to section 305(d) of the Magnuson-Stevens Act, the NMFS Assistant Administrator determined that this rule is consistent with the Fishery Management Plans (FMPs) of the NE Region, other provisions of the Magnuson-Stevens Act, and other applicable law, and is necessary to discharge the general responsibility to carry out said FMPs.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

List of Subjects in 50 CFR Part 648

Fisheries, Fishing, Reporting and recordkeeping requirements.

Dated: January 4, 2010
Samuel D. Rauch III,
Deputy Assistant Administrator For Regulatory Programs, National Marine Fisheries Service.

For the reasons set out in the preamble, 50 CFR part 648 is amended as follows:

PART 648—FISHERIES OF THE NORTHEASTERN UNITED STATES

1. The authority citation for part 648 continues to read as follows:

Authority:

16 U.S.C. 1801 et seq.

2. In § 648.12, paragraph (d) is added to read as follows:

§ 648.12 Experimental fishing.

(d) Temporary possession letter of authorization (LOA): The Regional Administrator (RA), or the RA's designee, may issue an LOA to eligible researchers on board federally permitted fishing vessels on which species of fish that otherwise could not be legally retained would be possessed temporarily for the purpose of collecting catch data. Under this authorization, such species of fish could be retained temporarily for data collection purposes, but shall be discarded as soon as practicable following data collection.

(1) Eligible activities. An LOA may be issued by the RA, or the RA's designee, to temporarily exempt a vessel, on which a qualified fishery research technician is collecting catch data, from the following types of fishery regulations: Minimum fish size restrictions; fish possession limits; species quota closures; prohibited fish species, not including species protected under the Endangered Species Act; and gear-specific fish possession restrictions.

(2) Eligibility criteria. Only personnel from the following bodies are eligible for a temporary possession LOA: Foreign government agency; U.S. Government agency; U.S. state or territorial agency; university (or other educational institution accredited by a recognized national or international accreditation body); international treaty organization; or scientific institution.

(3) Application requirements. To obtain a temporary possession LOA, an eligible applicant, as defined under paragraph (d)(2) of this section, is required to submit a complete application, which must contain the following information: The date of the application; the applicant's name, mailing address, and telephone number; a statement of the purposes and goals for which the LOA is needed; the name(s) and affiliation of the fishery research technicians will collect the data; a statement demonstrating the qualifications of the research technician that will collect the data; the species (target and incidental) expected to be harvested under the LOA; the proposed disposition of all regulated species harvested under the LOA; the approximate time(s) and place(s) fishing will take place; the type, size, and amount of gear to be used; and the signature of the applicant. In addition, for each vessel to be covered by the LOA, as soon as the information is available and before operations begin, the applicant is required to supply to NMFS the vessel operator name, the vessel's Federal fishing permit number, and the vessel registration or documentation number.

[FR Doc. 2010-142 Filed 1-7-10; 8:45 am]

BILLING CODE 3510-22-S